DEPARTMENT OF TRANSPORTATION

National Highway Traffic Safety Administration

49 CFR Part 536

[NHTSA-2010-0131; EPA-HQ-OAR-2010-0799; FRL-9706-5]

RIN 2127-AK79; RIN 2060-AQ54

2017 and Later Model Year Light-Duty Vehicle Greenhouse Gas Emissions and Corporate Average Fuel Economy Standards

AGENCY: National Highway Traffic Safety Administration (NHTSA), Department of Transportation (DOT).

ACTION: Correcting amendment.

SUMMARY: This document contains corrections to the final rule regulation which was published in the Federal Register of Monday, October 15, 2012 (77 FR 62624). The final rule established fuel economy standards for light-duty vehicles under the Energy Policy and Conservation Act (EPCA), as amended by the Energy Independence and Security Act (EISA), 49 U.S.C. 32901 et seq.

DATES: Effective Date: This correcting amendment is effective on December 14, 2012.

FOR FURTHER INFORMATION CONTACT: Rebecca Yoon, Office of Chief Counsel, National Highway Traffic Safety Administration, 1200 New Jersey Avenue SE., Washington, DC 20590. Telephone: (202) 366-2992.

SUPPLEMENTARY INFORMATION:

Background

NHTSA and EPA published in the Federal Register of October 15, 2012, final rules to establish coordinated standards to improve fuel economy and reduce greenhouse gas emissions for vehicles manufactured for sale in the United States in model years 2017 and beyond. The final rules, consistent with President Obama's directive to the agencies on May 21, 2010, respond to the country's critical need to reduce oil consumption and address global climate change.

Need for Correction

As published, the final regulations inadvertently misprinted one of the values for “VMTu,” which represents lifetime vehicle miles traveled for the model year and compliance category in which a traded or transferred credit is used for compliance in 49 CFR part 536. The value printed for passenger cars in model year 2011 was “152,922,” when the value intended to be printed, consistent with prior rulemakings, is “150,922.” To correct the mistake, NHTSA is replacing the value in the table to alleviate any confusion.

List of Subjects in 49 CFR Part 536

Fuel economy, Reporting and recordkeeping requirements.

Accordingly, 49 CFR part 536 is corrected by making the following correcting amendments:

PART 536—TRANSFER AND TRADING OF FUEL ECONOMY CREDITS

1. The authority citation for part 536 continues to read as follows:

Authority: 49 U.S.C. 32903, delegation of authority at 49 CFR 1.50.

2. Revise § 536.4(c) to read as follows:

§ 536.4 Credits.

* * * * *

(c) Adjustment factor. When traded or transferred and used, fuel economy credits are adjusted to ensure fuel oil savings is preserved. For traded credits, the user (or buyer) must multiply the calculated adjustment factor by the number of its shortfall credits it plans to offset in order to determine the number of equivalent credits to acquire from the earner (or seller). For transferred credits, the user of credits must multiply the calculated adjustment factor by the number of its shortfall credits it plans to offset in order to determine the number of equivalent credits to transfer from the compliance category holding the available credits. The adjustment factor is calculated according to the following formula:

Where:

A = Adjustment factor applied to traded and transferred credits.

VMTe = Lifetime vehicle miles traveled as provided in the following table for the model year and compliance category in which the credit was earned;

VMTu = Lifetime vehicle miles traveled as provided in the following table for the model year and compliance category in which the credit is used for compliance;

Model year | Lifetime vehicle miles traveled (VMT): 2011 | Lifetime vehicle miles traveled (VMT): 2012 | Lifetime vehicle miles traveled (VMT): 2013 | Lifetime vehicle miles traveled (VMT): 2014 | Lifetime vehicle miles traveled (VMT): 2015 | Lifetime vehicle miles traveled (VMT): 2016 | Lifetime vehicle miles traveled (VMT): 2017-2025
Passenger Cars | 150,922 | 177,238 | 177,366 | 178,652 | 180,497 | 182,134 | 195,264
Light Trucks | 172,552 | 208,471 | 208,537 | 209,974 | 212,040 | 213,954 | 225,865

MPGse = Required fuel economy standard for the originating (earning) manufacturer, compliance category, and model year in which the credit was earned;

MPGae = Actual fuel economy for the originating manufacturer, compliance category, and model year in which the credit was earned;

MPGsu = Required fuel economy standard for the user (buying) manufacturer, compliance category, and model year in which the credit is used for compliance; and

MPGau = Actual fuel economy for the user manufacturer, compliance category, and model year in which the credit is used for compliance.

Daniel C. Smith,
Senior Associate Administrator for Vehicle Safety, National Highway Traffic Safety Administration, Department of Transportation.

[FR Doc. 2012-25641 Filed 10-17-12; 8:45 a.m.]

BILLING CODE 4910-59-P